DEPARTMENT OF AGRICULTURE

National Agricultural Statistics Service

Notice of Intent To Request Revision and Extension of a Currently Approved Information Collection

AGENCY: National Agricultural Statistic Service, USDA.

ACTION: Notice and request for comments.

SUMMARY: This notice announced the National Agricultural Statistic Service's intentions to seek OMB's approval to renew the Agricultural Prices information collection. The notice was published in the Federal Register on November 16, 2012.

FOR FURTHER INFORMATION CONTACT: Joseph T. Reilly, 202-720-4333.

Correction

In the Federal Register of November 16, 2012 in FR Doc. 2012-27634, on page 68732 in the supplementary information, abstract section, correct, Para two, to read as follows:

The Agricultural Prices surveys provide data on the prices received by farmers and prices paid by them for production goods and services, NASS estimates based on these surveys are used as a Principal Economic Indicator of the United States.

Yvette Anderson,
Federal Register Liaison Officer for ARS, ERS, and NASS.

[FR Doc. 2012-29690 Filed 12-7-12; 8:45 am]

BILLING CODE P